DEPARTMENT OF TRANSPORTATION

Federal Railroad Administration

[Docket Number FRA-2003-16666]

Petition for Special Approval of Alternate Standard

In accordance with Part 238 of Title 49 Code of Federal Regulations (CFR), this document provides the public notice that by letters dated January 30 and 31, 2014, the National Railroad Passenger Corporation (Amtrak) petitioned the Federal Railroad Administration (FRA) for an extension of its Special Approval of alternate standard for certain requirements of the Federal railroad safety regulations contained at 49 CFR Part 238, Passenger Equipment Safety Standards. FRA assigned the petition Docket Number FRA-2003-16666.

Amtrak seeks approval to continue using an alternate standard to comply with 49 CFR 238. 311, Single car test. This section requires single car air brake tests to be performed in accordance with either American Public Transportation Association (APTA) Standard SS-M-005-98, “Code of Tests for Passenger Car Equipment Using Single Car Testing Device,” published March 1998, or with an alternative procedure approved by FRA pursuant to 49 CFR 238.21, Special approval procedure. In 2003, Amtrak requested and received approval from FRA for an alternate standard for single car air brake tests on Talgo train sets operated by Amtrak. This approval was renewed by FRA for 5 years in 2009. Amtrak states that while Talgo brake equipment can receive the single car test using the APTA standard, the alternate standard allows a semipermanently coupled train set to remain coupled during testing. Amtrak also indicates that using the APTA standard procedure on shorter length cars combined with reduced brake pipe volume would produce air flow rates not compatible with the APTA standard.

Amtrak supplied a copy of the alternate Talgo standard, a statement affirming that Amtrak served a copy of the petition to a designated representative of its employees and the name and address of the person served as required by 49 CFR 238.21(b)(4). These documents are available for inspection in the docket for this proceeding.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 2, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 27, 2014.
Robert C. Lauby,
Associate Administrator for Railroad Safety, Chief Safety Officer.

[FR Doc. 2014-12621 Filed 5-30-14; 8:45 am]

BILLING CODE 4910-06-P